DEPARTMENT OF TRANSPORTATION

Federal Motor Carrier Safety Administration

[Docket No. FMCSA-2019-0255]

Agency Information Collection Activities; Renewal of an Approved Information Collection: Training Certification for Drivers of Longer Combination Vehicles

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for approval and invites public comment. FMCSA requests approval to renew the ICR titled “Training Certification for Drivers of Longer Combination Vehicles (LCVs),” OMB Control No. 2126-0026. This ICR relates to Agency requirements for drivers to be certified to operate LCVs, and associated recordkeeping requirements that motor carriers must satisfy before permitting their drivers to operate LCVs. Motor carriers, upon inquiry by authorized Federal, State or local officials, must produce an LCV Driver-Training Certificate for each of their LCV drivers.

DATES: We must receive your comments on or before February 18, 2020.

ADDRESSES: You may submit comments identified by Federal Docket Management System Number FMCSA-2019-0255 by any of the following methods:

• Federal eRulemaking Portal: http://www.regulations.gov. Follow the online instructions for submitting comments.

• Fax: 1-202-493-2251.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m. E.T., Monday through Friday, except Federal holidays.

• Instructions: All submissions must include the Agency name and docket number. For detailed instructions on submitting comments, see the Public Participation heading below. Note that all comments received will be posted without change to http://www.regulations.gov, including any personal information provided. Please see the Privacy Act heading below.

• Docket: For access to the docket to read background documents or comments received, go to http://www.regulations.gov, and follow the online instructions for accessing the dockets, or go to the street address listed above.

• Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

• Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Ms. Pearlie Robinson, Driver and Carrier Operations Division, DOT, FMCSA, West Building 6th Floor, 1200 New Jersey Avenue SE, Washington, DC 20590. Telephone: 202-366-4325. Email: MCPSD@dot.gov.

SUPPLEMENTARY INFORMATION:

Background

An LCV is any combination of a truck-tractor and two or more semi-trailers or trailers that operates on the National System of Interstate and Defense Highways (according to 23 CFR 470.107) and has a gross vehicle weight greater than 80,000 pounds. To enhance the safety of LCV operations on our Nation's highways, Section 4007(b) of the Motor Carrier Act of 1991 directed the Secretary of Transportation to establish Federal minimum training requirements for drivers of LCVs [Intermodal Surface Transportation Efficiency Act of 1991 (ISTEA), Public Law 102-240, 105 Stat. 1914, 2152]. The Secretary of Transportation delegated responsibility for establishing these requirements to FMCSA (49 CFR 1.87), and on March 30, 2004, after appropriate notice and solicitation of public comment, FMCSA established the current training requirements for operators of LCVs (69 FR 16722). The regulations bar motor carriers from permitting their drivers to operate an LCV if they have not been properly trained in accordance with the requirements of 49 CFR 380.113. Drivers receive an LCV Driver-Training Certificate upon successful completion of these training requirements. Motor carriers employing an LCV driver must verify the driver's qualifications to operate an LCV, and must maintain a copy of the LCV Driver-Training Certificate and present it to authorized Federal, State, or local officials upon request.

Renewal of This Information Collection (IC)

The currently approved burden hour estimate associated with this IC, approved by OMB on May 19, 2017, is 5,565 hours. The Agency requests a reduction in the burden hour estimates from 5,565 hours to 4,244 hours. The reduction in burden hour estimates and costs is the result of correcting an error; the incorrect growth rate from the Bureau of Labor Statistics was previously used to estimate the number of new drivers requiring LCV driver training certificates. As a result, FMCSA over-estimated the number of new drivers, annual burden hours, hours for preparing training certificates, number of drivers who undergo the hiring process, number of respondents, number of responses, and costs to respondents.

Separately, the currently approved version of this IC incorrectly accounted for LCV driver training costs, estimated to be $7,035,160 annually. Training is not considered to be an information collection burden. For this updated version of the ICR, the Agency is removing the costs associated with training. Instead, FMCSA has calculated the labor costs associated with the LCV driver training recordkeeping requirements. The annual cost burden is estimated to be $135,734.

The expiration date of the current ICR is May 31, 2020. Through this request, FMCSA requests a renewal of the paperwork burden associated with the ICR titled “Training Certification for Drivers of Longer Combination Vehicles (LCVs),” OMB Control No. 2126-0026. This ICR corrects and updates all of the affected areas, as shown in the table below.

Estimate | Current approved IC | Proposed updated IC | Difference
Number of Drivers Engaged in the Operation of LCVs in the U.S | 44,095 | 38,503 | (5,592)
Total Annual Burden | 5,565 | 4,244 | (1,321)
Number of New Drivers | 2,360 | 218 | (2,142)
Number of Hours for Preparing Training Certificates | 394 | 36 | (358)
Number of Drivers Who Undergo Hiring Process | 31,022 | 25,245 | (5,777)
Number of Respondents | 59,684 | 50,708 | (8,976)
Number of Responses | 59,684 | 50,708 | (8,976)
Labor Costs to Respondents | $0 | $135,734 | $135,734
Annual Costs to Respondents | $7,035,160 | $0 | ($7,035,160)

Title: Training Certification for Drivers of LCVs.

OMB Control Number: 2126-0026.

Type of Request: Renewal and correction of a currently-approved information collection.

Respondents: LCV training providers who train new LCV drivers; drivers who complete LCV training each year; current LCV drivers who submit their LCV Driver-Training Certificate to prospective employers; and employers (motor carriers) receiving and maintaining copies of the LCV Driver-Training certificates of their drivers.

Estimated Number of Respondents: 50,708, consisting of 218 LCV training providers, plus 218 newly-certified LCV drivers, plus 25,027 currently-certified LCV drivers, plus 25,245 motor carriers employing LCV drivers.

Estimated Time per Response: 10 minutes for preparation of LCV Driver-Training Certificates for drivers who successfully complete the LCV training, and 10 minutes for activities associated with the LCV Driver-Training Certificate during the hiring process.

Expiration Date: May 31, 2020.

Frequency of Response: On occasion.

Estimated Total Annual Burden: 4,244 hours. The total number of drivers who will be subjected to these requirements each year is 25,245, consisting of 218 newly-certified LCV drivers, and 25,027 currently-certified LCV drivers obtaining new employment. Additionally, 218 LCV training providers will be required to prepare the training certificates for newly-certified drivers. The total annual information collection burden is approximately 4,244 hours, consisting of 36 hours for preparation of LCV Driver-Training Certificates [218 drivers successfully completing LCV driver training × 10 minutes ÷ 60 minutes/hour] and 4,208 hours for requirements related to the hiring of LCV drivers [25,245 LCV drivers obtaining new employment × 10 minutes ÷ 60 minutes/hour].

Estimated Total Cost to Respondents: $135,734.

Public Comments Invited: You are asked to comment on any aspect of this information collection, including: (1) Whether the proposed collection is necessary for FMCSA's performance; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87 on December 11, 2019.
Kelly Regal,
Associate Administrator for Office of Research and Information Technology.

[FR Doc. 2019-27256 Filed 12-17-19; 8:45 am]

BILLING CODE 4910-EX-P